DEPARTMENT OF THE INTERIOR

Bureau of Land Management

[AZ-411-1040-JH]

Call for Nominations for Gila Box Advisory Committee

AGENCY: Safford Field Office, Bureau of Land Management (BLM), Interior.

ACTION: Call for nominations for the Gila Box Riparian National Conservation Area (NCA) Advisory Committee.

SUMMARY: The BLM is publishing this Notice under Section 9(a)(2) of the Federal Advisory Committee Act to solicit public nominations for four members on the Gila Box Riparian NCA Advisory Committee. The Advisory Committee was created through Title 2, Section 201, of the Arizona Desert Wilderness Act of 1990 to provide informed advice to the Safford Field Manager on management of public lands in the Gila Box Riparian NCA in southeastern Arizona.

Any individual or organization may nominate one or more persons to serve on the Advisory Committee. Persons wishing to nominate themselves or other individuals should submit an application form, which is available from the BLM Safford Field Office or online at http://www.blm.gov/az as a link in the News Release section. The application must include at least one letter of recommendation that addresses the nominee's qualifications.

DATES: Nominations and reference letters should be mailed to the BLM address on the application form, and must be received no later than August 30, 2007.

FOR FURTHER INFORMATION CONTACT: For more information contact: Jeff Wilbanks, BLM Safford Field Office, 711 14th Avenue, Safford, AZ 85546; call (928) 348-4573; or e-mail Jeff_Wilbanks@blm.gov.

SUPPLEMENTARY INFORMATION: To ensure membership of the Advisory Committee is balanced in terms of categories of interest represented, nominees must be qualified to provide informed advice in specific areas related to the primary purposes for which the NCA was created. These include wildlife conservation, riparian ecology, hydrology, outdoor recreation, watershed management, environmental education, cultural resources, or other related disciplines.

Committee members are selected by the Secretary of the Interior to serve a three-year term, with terms beginning on the date of appointment. The Advisory Committee will meet 1-2 times each year. Members serve without salary, but are reimbursed for travel and per diem expenses at current rates for government employees.

Terms of two committee members will begin serving immediately upon their appointment. Terms of the other two committee members will begin with the expiration of two current memberships that will expire on March 31, 2008. All four current members may apply to serve another term on the Committee.

Dated: July 10, 2007.
Tom Schnell,
Acting Field Manager.

[FR Doc. E7-13796 Filed 7-16-07; 8:45 am]

BILLING CODE 4310-32-P